DEPARTMENT OF COMMERCE

National Oceanic and Atmospheric Administration

50 CFR Part 300

[Docket No. 060111007-6053-02; I.D. 010906A]

RIN 0648-AT56

Pacific Halibut Fisheries; Catch Sharing Plan

AGENCY: National Marine Fisheries Service (NMFS), National Oceanic and Atmospheric Administration (NOAA), Commerce.

ACTION: Final rule; annual management measures for Pacific halibut fisheries and approval of Catch Sharing Plan; changes to the Catch Sharing Plan and to sport fishing management in Area 2A.

SUMMARY: The Assistant Administrator for Fisheries, NOAA (AA), on behalf of the International Pacific Halibut Commission (IPHC), publishes annual management measures promulgated as regulations by the IPHC and approved by the Secretary of State governing the Pacific halibut fishery. The AA also announces modifications to the Catch Sharing Plan (CSP) for Area 2A and implementing regulations for 2006, and announces approval of the Area 2A CSP. These actions are intended to enhance the conservation of Pacific halibut and further the goals and objectives of the Pacific Fishery Management Council (PFMC) and the North Pacific Fishery Management Council (NPFMC).

EFFECTIVE DATE: March 5, 2006.

ADDRESSES: Additional requests for information regarding this action may be obtained by contacting either the International Pacific Halibut Commission, P.O. Box 95009, Seattle, WA 98145-2009, or Sustainable Fisheries Division, Alaska Region, NMFS P.O. Box 21668, Juneau, AK 99802-1668, or Sustainable Fisheries Division, NMFS Northwest Region, 7600 Sand Point Way, NE., Seattle, WA 98105. This final rule also is accessible via the Internet at the Government Printing Office's Web site at http://www.regulations.gov.

FOR FURTHER INFORMATION CONTACT: Bubba Cook, 907-586-7425, e-mail at bubba.cook@noaa.gov, or Jamie Goen, 206-526-4646, e-mail at jamie.goen@noaa.gov.

SUPPLEMENTARY INFORMATION:

Background

The IPHC has promulgated regulations governing the Pacific halibut fishery in 2006 under the Convention between the United States and Canada for the Preservation of the Halibut Fishery of the North Pacific Ocean and Bering Sea (Convention), signed at Ottawa, Ontario, on March 2, 1953, as amended by a Protocol Amending the Convention (signed at Washington, DC, on March 29, 1979). The IPHC regulations have been approved by the Secretary of State of the United States under section 4 of the Northern Pacific Halibut Act (Halibut Act, 16 U.S.C. 773-773k). Pursuant to regulations at 50 CFR 300.62, the approved IPHC regulations setting forth the 2006 IPHC annual management measures are published in the Federal Register to provide notice of their effectiveness, and to inform persons subject to the regulations of the restrictions and requirements. These management measures are effective until superseded by the 2007 management measures, which NMFS will publish in the Federal Register.

The IPHC held its annual meeting in Bellevue, Washington, January 17-20, 2006, and adopted regulations for 2006. The substantive changes to the previous IPHC regulations (70 FR 9242, February 25, 2005) include:

1. New commercial fishery opening date of March 5;

2. Opening dates for the Area 2A commercial non-tribal directed halibut fishery;

3. Adoption of the revised Area 2A CSP.

4. A new possession limit on land for Washington, Oregon, and California.

The IPHC recommended catch limits for 2006 to the governments of Canada and the United States totaling 69,860,000 lbs. (31,688.5 mt) The IPHC staff reported on the assessment of the Pacific halibut stock in 2005. The assessment indicated healthy halibut stocks in Areas 3A through 2A, but indicated declines in Areas 3B and throughout Area 4 requiring lower catch rates. Recruitment of 1994 and 1995 year classes appeared relatively strong in all areas except Area 4B, which showed lower recruitment levels for the same year classes. IPHC staff also reported that recoveries of PIT-tagged halibut in the Bering Sea and Gulf of Alaska remain low, providing insufficient information to reliably estimate exploitable biomass in those areas.

Based on recommendations by the IPHC staff, the IPHC adopted a harvest rate of 22.5 percent as the baseline harvest rate for Areas 3A, 2C, 2B, and 2A. Reduced recruitment and a new assessment of productivity in Areas 4B and 4CDE indicated an appropriate harvest rate of 15 percent. Thus, as a precautionary measure, the IPHC adopted catch limits based on a 15-percent harvest rate for Areas 4B and 4CDE while additional research is conducted during 2006.

This action also implements the CSP for regulatory Area 2A. This plan was developed by the PFMC under authority of the Halibut Act. Section 5 of the Halibut Act (16 U.S.C. 773c) provides the Secretary of Commerce (Secretary) with general responsibility to carry out the Convention and to adopt such regulations as may be necessary to implement the purposes and objectives of the Convention and the Halibut Act. The Secretary's authority has been delegated to the AA. Section 5 of the Halibut Act (16 U.S.C. 773c(c)) also authorizes the Regional Fishery Management Council having authority for the geographic area concerned to develop regulations governing the Pacific halibut catch in United States Convention waters that are in addition to, but not in conflict with, regulations of the IPHC. Pursuant to this authority, the PFMC's Area 2A CSP allocates the halibut catch limit for Area 2A among treaty Indian, non-treaty commercial, and non-treaty sport fisheries in and off Washington, Oregon, and California.

Catch Sharing Plan (CSP) for Area 2A

For 2006, PFMC recommended changes to the CSP to modify the Pacific halibut fisheires in Area 2A in 2006 and beyond pursuant to recommendations from the Washington Department of Fish and Wildlife (WDFW) and the Oregon Department of Fish and Wildlife (ODFW). These changes to the CSP will: (1) Decrease the days open per week in the Washington North Coast subarea; (2) specify the opening date for the June fishery in the Washington North Coast subarea as the first Thursday after June 17; (3) revise the Washington South Coast subarea season to reopen the northern nearshore area on Fridays and Saturdays if insufficient quota remains to open the entire subarea for another fishing day; (4) revise the definition of the northern nearshore area in the Washington South Coast subarea; (5) increase the Oregon contribution to the Columbia River subarea allocation by taking it from the Oregon Central Coast subarea allocation; (6) split the Columbia River subarea season into an early and late season; (7) prohibit retention of groundfish, except sablefish and Pacific cod, when Pacific halibut are onboard the vessel in the Columbia River subarea; (8) allow an increase in the daily bag limit to two fish after Labor Day for the Oregon central coast; (9) increase the Oregon possession limit on land from two daily limits to three daily limits statewide. NMFS published a proposed rule to implement the PFMC's recommended changes to the CSP, and to implement the 2006 Area 2A sport fishing season regulations on January 30, 2006, (71 FR 4876).

This final rule announces approval of revisions to the Area 2A CSP and implements the Area 2A CSP and management measures for 2006. These halibut management measures are effective until superceded by the 2007 halibut management measures that will be published in the Federal Register.

Portions of the Catch Sharing Plan and regulations regarding flexible inseason management provisions, fishery election in Area 2A and the Area 2A non-Treaty commercial fishery closed areas, generally do not change from year to year. These regulations have been published with the annual halibut management measures, however, this year they are being moved from the annual halibut management measures into codified regulatory language at 50 CFR part 300, subpart E.

Comments and Responses

NMFS accepted comments on the proposed rule to implement the 2006 Area 2A CSP through February 14, 2006, and received one letter of comment apiece from WDFW and ODFW, plus one e-mail comment from a member of the public.

Comment 1: The WDFW held a public meeting on January 25, 2006, to review the results of the 2005 Puget Sound halibut fishery, and to develop season dates for the 2006 sport halibut fishery. Based on the 2006 Area 2A total allowable catch of 1.38 million pounds (626 mt,) the halibut quota for the Puget Sound sport fishery is 68,607 lb (31.1 mt.) Applying WDFW's Fishing Equivalent Day (FED) method for estimating the Puget Sound fishery's season length, and applying the highest catch per FED in the past five years, there are 87 FEDs available for the Eastern Region and 87 FEDs available for the Western Region in 2006. We also had requests from the Washington public, however, to open the Eastern Region of Puget Sound earlier in April, when the halibut catch rate tends to be higher. Therefore, we are recommending setting the Puget Sound fishing season with fewer FEDs for the Eastern Region at 84 FEDs and 87 FEDs for the Western Region, as follows: Eastern Region to be open April 9 through June 18, 2006; Western Region to be open May 25 through August 5, 2006. WDFW also requests that NMFS change the CSP and adopt the IPHC-recommended changes to the possession limits on land for Washington, Oregon, and California.

Response: NMFS agrees with WDFW's recommended Puget Sound season dates and has implemented them via this final rule. NMFS also agrees with the IPHC-recommended Area 2A possession limits on land, which the IPHC developed at its 2006 annual meeting in concert with WDFW and ODFW. These limits are part of this final rule.

NMFS will not change the Area 2A CSP at this time. Changes to the Area 2A CSP for the following year are recommended annually through the PFMC process at its September and November meetings. The IPHC then reviews the PFMC-recommended changes to the Area 2A catch sharing plan at its annual meeting. NMFS approves and implements the Area 2A CSP through a proposed and final rulemaking. The Area 2A CSP covers fishing in U.S. waters off the coast of Washington, Oregon, and California. According to the Area 2A CSP, “all sport fishing in Area 2A is managed on a ‘port of landing’ basis, whereby any halibut landed into a port will count toward the quota for the subarea in which that port is located, and the regulations governing the subarea of landing apply, regardless of the specific area of catch.” NMFS understands that WDFW would like to clarify regulations concerning fish caught in Canadian waters and landed into Washington ports to aid enforcement. The IPHC adopted clarifying regulations at their annual meeting in 2006 per WDFW's request. The IPHC-adopted language is consistent with the Area 2A CSP, although the Area 2A CSP and the IPHC regulations do not specifically address fish caught in Canadian waters and possessed on land in Washington. Therefore, in response to WDFW's request, and after consultation with WDFW and IPHC staff, NMFS is promulgating a regulation under the Halibut Act that is in addition to the IPHC regulations. NMFS will revise paragraph (10) in Section 25. “Sport Fishing for Halibut,” to read as follows: “(10) The possession limit on land in Washington for halibut caught in: (a) U.S. waters off the coast of Washington is two halibut; and (b) Canadian waters off the coast of British Columbia is three halibut.”

Comment 2: The ODFW held a public meeting to gather comments on the open dates for the Spring recreational all-depth fishery in Oregon's Central Coast sub-area. Since 2003, the number of open fishing days that could be accommodated in the Spring fishery has been roughly constant. The catch limit for this sub-area's Spring season will be 175,474 lb (79.6 mt) in 2006, based on the IPHC's 2006 recommendations for Area 2A. Given the relatively constant effort pattern in recent years, and the expectation of a somewhat higher catch limit than in 2005, ODFW recommends setting a Central Coast all-depth fishery of 15 days, with 9 additional back-up dates, in case the sub-area's Spring quota is not taken in the initial 15 days. We recommend the following days for the Spring fishery, within this sub-area's parameters for a Thursday-Saturday season: regular open days of May 11-13, 18-20, and 25-27, June 1-3, and 8-10; back-up open days of June 22-24, and July 6-8, and 20-22. For the Summer fishery in this sub-area, we recommend following the CSP's parameters of opening the first Friday in August, with open day to occur every other Friday-Sunday, unless modified inseason within the parameters of the CSP. Under the CSP, the 2006 summer all-depth fishery in Oregon's Central Coast sub-area would occur: August 4-6, and 18-20, September 1-3, and 15-17, and 29-30, and October 1, 13-15, and 27-29. To facilitate rebuilding of yelloweye rockfish off the Oregon coast and to improve enforcement of the Stonewall Bank Yelloweye Rockfish Conservation Area (YRCA,) ODFW also recommends prohibiting any fishing in the YRCA for any species of fish for vessels with halibut onboard. Vessels with halibut onboard would be permitted to traverse the YRCA, as long as they do not fish within the YRCA.

Response: NMFS agrees with ODFW's recommended Central Coast season dates, and with the recommended YRCA regulation, and has implemented them via this final rule. NMFS notes that ODFW's recommendation for the YRCA is a change from the proposed rule. Thus, with this final rule, halibut may not be retained onboard recreational fishing vessels trolling for salmon while those vessels are operating in the closed area.

Comment 3: What is the plan for the 2006 incidental halibut catch allowance in the commercial salmon troll fishery? I would like to request that the season remain the same as last year.

Response: Under the CSP at the 2006 Area 2A TAC level, the salmon troll fishery would be allocated 41,464 lb (18.8 mt) of halibut for incidental catch in 2006. This is more than the allocation for 2005. The PFMC first considers the per-Chinook incidental halibut retention ratio at its March 5-10 meeting in Seattle, WA. At its April 2-7 meeting in Sacramento, CA, the PFMC will finalize its recommendations for that ratio. NMFS will implement the final ratio via its 2006 salmon fishery regulations.

Annual Halibut Management Measures

The annual management measures that follow for the 2006 Pacific halibut fishery are those adopted by the IPHC and approved by the Secretary of State.

1. Short Title

These regulations may be cited as the Pacific Halibut Fishery Regulations.

2. Application

(1) These Regulations apply to persons and vessels fishing for halibut in, or possessing halibut taken from, the maritime area as defined in Section 3.

(2) Sections 3 to 6 apply generally to all halibut fishing.

(3) Sections 7 to 20 apply to commercial fishing for halibut.

(4) Section 21 applies to tagged halibut caught by any vessel.

(5) Section 22 applies to the United States treaty Indian fishery in subarea 2A-1.

(6) Section 23 applies to customary and traditional fishing in Alaska.

(7) Section 24 applies to Aboriginal groups fishing for food, social, and ceremonial purposes in British Columbia.

(8) Section 25 applies to sport fishing for halibut.

(9) These Regulations do not apply to fishing operations authorized or conducted by the Commission for research purposes.

3. Interpretation

(1) In these Regulations;

(a) Authorized officer means any State, Federal, or Provincial officer authorized to enforce these regulations including, but not limited to, the National Marine Fisheries Service (NMFS), Canada's Department of Fisheries and Oceans (DFO), Alaska Division of Fish and Wildlife Protection (ADFWP), United States Coast Guard (USCG), Washington Department of Fish and Wildlife (WDFW), and the Oregon State Police (OSP);

(b) Authorized clearance personnel means an authorized officer of the United States, a representative of the Commission, or a designated fish processor;

(c) Charter vessel means a vessel used for hire in sport fishing for halibut, but not including a vessel without a hired operator;

(d) Commercial fishing means fishing, other than:

(i) Treaty Indian ceremonial and subsistence fishing as referred to in section 22;

(ii) Customary and traditional fishing as referred to in section 23 and defined by and regulated pursuant to NMFS regulations published at 50 CFR part 300, the resulting catch of which is sold or bartered; or is intended to be sold or bartered; and

(iii) Aboriginal groups fishing in British Columbia as referred to in section 24.

(e) Commission means the International Pacific Halibut Commission;

(f) Daily bag limit means the maximum number of halibut a person may take in any calendar day from Convention waters;

(g) Fishing means the taking, harvesting, or catching of fish, or any activity that can reasonably be expected to result in the taking, harvesting, or catching of fish, including specifically the deployment of any amount or component part of setline gear anywhere in the maritime area;

(h) Fishing period limit means the maximum amount of halibut that may be retained and landed by a vessel during one fishing period;

(i) Land or offload with respect to halibut, means the removal of halibut from the catching vessel;

(j) License means a halibut fishing license issued by the Commission pursuant to section 4;

(k) Maritime area, in respect of the fisheries jurisdiction of a Contracting Party, includes without distinction areas within and seaward of the territorial sea and internal waters of that Party;

(l) Net weight, with respect to halibut, shall be based on halibut that is gutted, head-off, and without ice and slime;

(m) Operator, with respect to any vessel, means the owner and/or the master or other individual on board and in charge of that vessel;

(n) Overall length of a vessel means the horizontal distance, rounded to the nearest foot, between the foremost part of the stem and the aftermost part of the stern (excluding bowsprits, rudders, outboard motor brackets, and similar fittings or attachments);

(o) Person includes an individual, corporation, firm, or association;

(p) Regulatory area means an area referred to in section 6;

(q) Setline gear means one or more stationary, buoyed, and anchored lines with hooks attached;

(r) Sport fishing means all fishing other than:

(i) Commercial fishing;

(ii) Treaty Indian ceremonial and subsistence fishing as referred to in section 22;

(iii) Customary and traditional fishing as referred to in section 23 and defined in and regulated pursuant to NMFS regulations published in 50 CFR part 300; and

(iv) Aboriginal groups fishing in British Columbia as referred to in section 24.

(s) Tender means any vessel that buys or obtains fish directly from a catching vessel and transports it to a port of landing or fish processor;

(t) VMS transmitter means a NMFS-approved vessel monitoring system transmitter that automatically determines a vessel's position and transmits it to a NMFS-approved communications service provider.¹

¹ Call NOAA Enforcement Division, Alaska Region, at 907-586-72225 between the hours of 0800 and 1600 local time for a list of NMFS-approved VMS transmitters and communications service providers.

(2) In these Regulations, all bearings are true and all positions are determined by the most recent charts issued by the United States National Ocean Service or the Canadian Hydrographic Service.

4. Licensing Vessels for Area 2A

(1) No person shall fish for halibut from a vessel, nor possess halibut on board a vessel, used either for commercial fishing or as a charter vessel in Area 2A, unless the Commission has issued a license valid for fishing in Area 2A in respect of that vessel.

(2) A license issued for a vessel operating in Area 2A shall be valid only for operating either as a charter vessel or a commercial vessel, but not both.

(3) A vessel with a valid Area 2A commercial license cannot be used to sport fish for Pacific halibut in Area 2A.

(4) A license issued for a vessel operating in the commercial fishery in Area 2A shall be valid for one of the following, but not both.

(a) The directed commercial fishery during the fishing periods specified in paragraph (2) of section 8 and the incidental commercial fishery during the sablefish fishery specified in paragraph (3) of section 8; or

(b) The incidental catch fishery during the salmon troll fishery specified in paragraph (4) of section 8.

(5) A license issued in respect of a vessel referred to in paragraph (1) of this section must be carried on board that vessel at all times and the vessel operator shall permit its inspection by any authorized officer.

(6) The Commission shall issue a license in respect of a vessel, without fee, from its office in Seattle, Washington, upon receipt of a completed, written, and signed “Application for Vessel License for the Halibut Fishery” form.

(7) A vessel operating in the directed commercial fishery or the incidental commercial fishery during the sablefish fishery in Area 2A must have its “Application for Vessel License for the Halibut Fishery” form postmarked no later than 11:59 p.m. on April 30, or on the first weekday in May if April 30 is a Saturday or Sunday.

(8) A vessel operating in the incidental commercial fishery during the salmon troll season in Area 2A must have its “Application for Vessel License for the Halibut Fishery” form postmarked no later than 11:59 p.m. on March 31, or the first weekday in April if March 31 is a Saturday or Sunday.

(9) Application forms may be obtained from any authorized officer or from the Commission.

(10) Information on “Application for Vessel License for the Halibut Fishery” form must be accurate.

(11) The “Application for Vessel License for the Halibut Fishery” form shall be completed and signed by the vessel owner.

(12) Licenses issued under this section shall be valid only during the year in which they are issued.

(13) A new license is required for a vessel that is sold, transferred, renamed, or redocumented.

(14) The license required under this section is in addition to any license, however designated, that is required under the laws of the United States or any of its States.

(15) The United States may suspend, revoke, or modify any license issued under this section under policies and procedures in 15 CFR part 904.

5. In-Season Actions

(1) The Commission is authorized to establish or modify regulations during the season after determining that such action:

(a) Will not result in exceeding the catch limit established preseason for each regulatory area;

(b) Is consistent with the Convention between the United States of America and Canada for the Preservation of the Halibut Fishery of the Northern Pacific Ocean and Bering Sea, and applicable domestic law of either Canada or the United States; and

(c) Is consistent, to the maximum extent practicable, with any domestic catch sharing plans or other domestic allocation programs developed by the United States or Canadian governments.

(2) In-season actions may include, but are not limited to, establishment or modification of the following:

(a) Closed areas;

(b) Fishing periods;

(c) Fishing period limits;

(d) Gear restrictions;

(e) Recreational bag limits;

(f) Size limits; or

(g) Vessel clearances.

(3) In-season changes will be effective at the time and date specified by the Commission.

(4) The Commission will announce in-season actions under this section by providing notice to major halibut processors; Federal, State, United States treaty Indian, Provincial fishery officials, and the media.

6. Regulatory Areas

The following areas shall be regulatory areas (see Figure 1) for the purposes of the Convention:

(1) Area 2A includes all waters off the states of California, Oregon, and Washington;

(2) Area 2B includes all waters off British Columbia;

(3) Area 2C includes all waters off Alaska that are east of a line running 340° true from Cape Spencer Light (58°11′54″ N. lat., 136°38′24″ W. long.) and south and east of a line running 205° true from said light;

(4) Area 3A includes all waters between Area 2C and a line extending from the most northerly point on Cape Aklek (57°41′15″ N. lat., 155°35′00″ W. long.) to Cape Ikolik (57°17′17″ N. lat., 154°47′18″ W. long.), then along the Kodiak Island coastline to Cape Trinity (56°44′50″ N. lat., 154°08′44″ W. long.), then 140° true;

(5) Area 3B includes all waters between Area 3A and a line extending 150° true from Cape Lutke (54°29′00″ N. lat., 164°20′00″ W. long.) and south of 54°49′00″ N. lat. in Isanotski Strait;

(6) Area 4A includes all waters in the Gulf of Alaska west of Area 3B and in the Bering Sea west of the closed area defined in section 10 that are east of 172°00′00″ W. long. and south of 56°20′00″ N. lat.;

(7) Area 4B includes all waters in the Bering Sea and the Gulf of Alaska west of Area 4A and south of 56°20′00″ N. lat.;

(8) Area 4C includes all waters in the Bering Sea north of Area 4A and north of the closed area defined in section 10 which are east of 171°00′00″ W. long., south of 58°00′00″ N. lat., and west of 168°00′00″ W. long.;

(9) Area 4D includes all waters in the Bering Sea north of Areas 4A and 4B, north and west of Area 4C, and west of 168°00′00″ W. long.;

(10) Area 4E includes all waters in the Bering Sea north and east of the closed area defined in section 10, east of 168°00′00″ W. long., and south of 65°34′00″ N. lat.

7. Fishing in Regulatory Area 4E and 4D

(1) Section 7 applies only to any person fishing, or vessel that is used to fish for, Area 4E Community Development Quota (CDQ) or Area 4D CDQ halibut provided that the total annual halibut catch of that person or vessel is landed at a port within Area 4E or 4D.

(2) A person may retain halibut taken with setline gear in Area 4E CDQ and 4D CDQ fishery that are smaller than the size limit specified in section 13, provided that no person may sell or barter such halibut.

(3) The manager of a CDQ organization that authorizes persons to harvest halibut in the Area 4E or 4D CDQ fisheries must report to the Commission the total number and weight of undersized halibut taken and retained by such persons pursuant to section 7, paragraph (2). This report, which shall include data and methodology used to collect the data, must be received by the Commission prior to December 1 of the year in which such halibut were harvested.

8. Fishing Periods

(1) The fishing periods for each regulatory area apply where the catch limits specified in section 11 have not been taken.

(2) Each fishing period in the Area 2A directed fishery ² shall begin at 0800 hours and terminate at 1800 hours local time on June 28, July 12, July 26, August 9, August 23, September 6, and September 20 unless the Commission specifies otherwise.

² The directed fishery is restricted to waters that are south of Point Chehalis, Washington (46°53′18″ N. lat.) under regulations; promulgated by NMFS and published in the Federal Register,

(3) Notwithstanding paragraph (7) of section 11, an incidental catch fishery ³ is authorized during the sablefish seasons in Area 2A in accordance with regulations promulgated by NMFS.

³ The incidental fishery during the directed, fixed gear stablefish season is restricted to waters that are north of Point Chehalis, Washington (46°53′18″ N. lat.) under regulations promoted by NMFS and published in the Federal Register.

(4) Notwithstanding paragraph (2), and paragraph (7) of section 11, an incidental catch fishery is authorized during salmon troll seasons in Area 2A in accordance with regulations promulgated by NMFS.

(5) The fishing period in Areas 2B, 2C, 3A, 3B, 4A, 4B, 4C, 4D, and 4E shall begin at 1200 hours local time on March 5 and terminate at 1200 hours local time on November 15, unless the Commission specifies otherwise.

(6) All commercial fishing for halibut in Areas 2A, 2B, 2C, 3A, 3B, 4A, 4B, 4C, 4D, and 4E shall cease at 1200 hours local time on November 15.

9. Closed Periods

(1) No person shall engage in fishing for halibut in any regulatory area other than during the fishing periods set out in section 8 in respect of that area.

(2) No person shall land or otherwise retain halibut caught outside a fishing period applicable to the regulatory area where the halibut was taken.

(3) Subject to paragraphs (7), (8), (9), and (10) of section 19, these Regulations do not prohibit fishing for any species of fish other than halibut during the closed periods.

(4) Notwithstanding paragraph (3), no person shall have halibut in his/her possession while fishing for any other species of fish during the closed periods.

(5) No vessel shall retrieve any halibut fishing gear during a closed period if the vessel has any halibut on board.

(6) A vessel that has no halibut on board may retrieve any halibut fishing gear during the closed period after the operator notifies an authorized officer or representative of the Commission prior to that retrieval.

(7) After retrieval of halibut gear in accordance with paragraph (6), the vessel shall submit to a hold inspection at the discretion of the authorized officer or representative of the Commission.

(8) No person shall retain any halibut caught on gear retrieved referred to in paragraph (6).

(9) No person shall possess halibut aboard a vessel in a regulatory area during a closed period unless that vessel is in continuous transit to or within a port in which that halibut may be lawfully sold.

10. Closed Area

All waters in the Bering Sea north of 55°00′00″ N. lat. in Isanotski Strait that are enclosed by a line from Cape Sarichef Light (54°36′0″ N. lat., 164°55′42″ W. long.) to a point at 56°20′00″ N. lat., 168°30′00″ W. long.; thence to a point at 58°21′25″ N. latitude, 163°00′00″ W. long.; thence to Strogonof Point (56°53′18″ N. lat., 158°50′37″ W. long.); and then along the northern coasts of the Alaska Peninsula and Unimak Island to the point of origin at Cape Sarichef Light are closed to halibut fishing and no person shall fish for halibut therein or have halibut in his/her possession while in those waters except in the course of a continuous transit across those waters. All waters in Isanotski Strait between 55°00′00″ N. lat. and 54°49′00″ N. lat. are closed to halibut fishing.

11. Catch Limits

(1) The total allowable catch of halibut to be taken during the halibut fishing periods specified in section 8 shall be limited to the net weights expressed in pounds or metric tons shown in the following table:

Regulatory area | Catch limit: Pounds | Catch limit: Metric tons
2A: directed commercial, and incidental commercial during salmon troll fishery | 276,424 | 125.4
2A: incidental commercial during sablefish fishery | 70,000 | 31.8
2B ⁴ | 13,220,000 | 5,995.5
2C | 10,630,000 | 4,820.9
3A | 25,200,000 | 11,428.6
3B | 10,860,000 | 4,925.2
4A | 3,350,000 | 1,519.3
4B | 1,670,000 | 757.4
4C | 1,610,000 | 730.2
4D | 1,610,000 | 730.2
4E | 330,000 | 149.7

(2) Notwithstanding paragraph (1), regulations pertaining to the division of the Area 2A catch limit between the directed commercial fishery and the incidental catch fishery as described in paragraph (4) of section 8 will be promulgated by NMFS and published in the Federal Register.

⁴ Area 2B includes combined commercial and sport catch limits which will be allocated by DFO.

(3) The Commission shall determine and announce to the public the date on which the catch limit for Area 2A will be taken.

(4) Notwithstanding paragraph (1), Area 2B will close only when all Individual Vessel Quotas (IVQs) assigned by DFO are taken, or November 15, whichever is earlier.

(5) Notwithstanding paragraph (1), Areas 2C, 3A, 3B, 4A, 4B, 4C, 4D, and 4E will each close only when all IFQs and all CDQs issued by NMFS have been taken, or November 15, whichever is earlier.

(6) If the Commission determines that the catch limit specified for Area 2A in paragraph (1) would be exceeded in an unrestricted 10-hour fishing period as specified in paragraph (2) of section 8, the catch limit for that area shall be considered to have been taken unless fishing period limits are implemented.

(7) When under paragraphs (2), (3), and (6) the Commission has announced a date on which the catch limit for Area 2A will be taken; no person shall fish for halibut in that area after that date for the rest of the year, unless the Commission has announced the reopening of that area for halibut fishing.

(8) Notwithstanding paragraph (1), the total allowable catch of halibut that may be taken in the Area 4E directed commercial fishery is equal to the combined annual catch limits specified for the Area 4D and Area 4E CDQ fisheries. The annual Area 4D CDQ catch limit will decrease by the equivalent amount of halibut CDQ taken in Area 4E in excess of the annual Area 4E CDQ catch limit.

(9) Notwithstanding paragraph (1), the total allowable catch of halibut that may be taken in the Area 4D directed commercial fishery is equal to the combined annual catch limits specified for Area 4C and Area 4D. The annual Area 4C catch limit will decrease by the equivalent amount of halibut taken in Area 4D in excess of the annual Area 4D catch limit.

12. Fishing Period Limits

(1) It shall be unlawful for any vessel to retain more halibut than authorized by that vessel's license in any fishing period for which the Commission has announced a fishing period limit.

(2) The operator of any vessel that fishes for halibut during a fishing period when fishing period limits are in effect must, upon commencing an offload of halibut to a commercial fish processor, completely offload all halibut on board said vessel to that processor and ensure that all halibut is weighed and reported on State fish tickets.

(3) The operator of any vessel that fishes for halibut during a fishing period when fishing period limits are in effect must, upon commencing an offload of halibut other than to a commercial fish processor, completely offload all halibut on board said vessel and ensure that all halibut are weighed and reported on State fish tickets.

(4) The provisions of paragraph (3) are not intended to prevent retail over-the-side sales to individual purchasers so long as all the halibut on board is ultimately offloaded and reported.

(5) When fishing period limits are in effect, a vessel's maximum retainable catch will be determined by the Commission based on:

(a) The vessel's overall length in feet and associated length class;

(b) The average performance of all vessels within that class; and

(c) The remaining catch limit.

(6) Length classes are shown in the following table:

Overall length, in feet (m) | Vessel class
1-25 (0.3-7.6) | A
26-30 (7.9-9.1) | B
31-35 (9.4-10.7) | C
36-40 (11.0-12.2) | D
41-45 (12.5-13.7) | E
46-50 (14.0-15.2) | F
51-55 (15.5-16.8) | G
56+ (17.1+) | H

(7) Fishing period limits in Area 2A apply only to the directed halibut fishery referred to in paragraph (2) of section 8.

13. Size Limits

(1) No person shall take or possess any halibut that

(a) With the head on, is less than 32 inches (81.3 cm) as measured in a straight line, passing over the pectoral fin from the tip of the lower jaw with the mouth closed, to the extreme end of the middle of the tail, as illustrated in Figure 2; or

(b) With the head removed, is less than 24 inches (61.0 cm) as measured from the base of the pectoral fin at its most anterior point to the extreme end of the middle of the tail, as illustrated in Figure 2.

(2) No person on board a vessel fishing for, or tendering, halibut caught in Area 2A shall possess any halibut that has had its head removed.

14. Careful Release of Halibut

(1) All halibut that are caught and are not retained shall be immediately released outboard of the roller and returned to the sea with a minimum of injury by:

(a) Hook straightening;

(b) Cutting the gangion near the hook; or

(c) Carefully removing the hook by twisting it from the halibut with a gaff.

15. Vessel Clearance in Area 4

(1) The operator of any vessel that fishes for halibut in Areas 4A, 4B, 4C, or 4D must obtain a vessel clearance before fishing in any of these areas, and before the landing of any halibut caught in any of these areas, unless specifically exempted in paragraphs (10), (13), (14), (15), or (16).

(2) An operator obtaining a vessel clearance required by paragraph (1) must obtain the clearance in person from the authorized clearance personnel and sign the IPHC form documenting that a clearance was obtained, except that when the clearance is obtained via VHF radio referred to in paragraphs (5), (8), and (9), the authorized clearance personnel must sign the IPHC form documenting that the clearance was obtained.

(3) The vessel clearance required under paragraph (1) prior to fishing in Area 4A may be obtained only at Nazan Bay on Atka Island, Dutch Harbor or Akutan, Alaska, from an authorized officer of the United States, a representative of the Commission, or a designated fish processor.

(4) The vessel clearance required under paragraph (1) prior to fishing in Area 4B may only be obtained at Nazan Bay on Atka Island or Adak, Alaska, from an authorized officer of the United States, a representative of the Commission, or a designated fish processor.

(5) The vessel clearance required under paragraph (1) prior to fishing in Area 4C and 4D may be obtained only at St. Paul or St. George, Alaska, from an authorized officer of the United States, a representative of the Commission, or a designated fish processor by VHF radio and allowing the person contacted to confirm visually the identity of the vessel.

(6) The vessel operator shall specify the specific regulatory area in which fishing will take place.

(7) Before unloading any halibut caught in Area 4A, a vessel operator may obtain the clearance required under paragraph (1) only in Dutch Harbor or Akutan, Alaska, by contacting an authorized officer of the United States, a representative of the Commission, or a designated fish processor.

(8) Before unloading any halibut caught in Area 4B, a vessel operator may obtain the clearance required under paragraph (1) only in Nazan Bay on Atka Island or Adak, by contacting an authorized officer of the United States, a representative of the Commission, or a designated fish processor by VHF radio or in person.

(9) Before unloading any halibut caught in Area 4C and 4D, a vessel operator may obtain the clearance required under paragraph (1) only in St. Paul, St. George, Dutch Harbor, or Akutan, Alaska, either in person or by contacting an authorized officer of the United States, a representative of the Commission, or a designated fish processor. The clearances obtained in St. Paul or St. George, Alaska, can be obtained by VHF radio and allowing the person contacted to confirm visually the identity of the vessel.

(10) Any vessel operator who complies with the requirements in section 18 for possessing halibut on board a vessel that was caught in more than one regulatory area in Area 4 is exempt from the clearance requirements of paragraph (1) of this section, provided that:

(a) The operator of the vessel obtains a vessel clearance prior to fishing in Area 4 in either Dutch Harbor, Akutan, St. Paul, St. George, Adak, or Nazan Bay on Atka Island by contacting an authorized officer of the United States, a representative of the Commission, or a designated fish processor. The clearance obtained in St. Paul, St. George, Adak, or Nazan Bay on Atka Island can be obtained by VHF radio and allowing the person contacted to confirm visually the identity of the vessel. This clearance will list the Areas in which the vessel will fish; and

(b) Before unloading any halibut from Area 4, the vessel operator obtains a vessel clearance from Dutch Harbor, Akutan, St. Paul, St. George, Adak, or Nazan Bay on Atka Island by contacting an authorized officer of the United States, a representative of the Commission, or a designated fish processor. The clearance obtained in St. Paul or St. George can be obtained by VHF radio and allowing the person contacted to confirm visually the identity of the vessel. The clearance obtained in Adak or Nazan Bay on Atka Island can be obtained by VHF radio.

(11) Vessel clearances shall be obtained between 0600 and 1800 hours, local time.

(12) No halibut shall be on board the vessel at the time of the clearances required prior to fishing in Area 4.

(13) Any vessel that is used to fish for halibut only in Area 4A and lands its total annual halibut catch at a port within Area 4A is exempt from the clearance requirements of paragraph (1).

(14) Any vessel that is used to fish for halibut only in Area 4B and lands its total annual halibut catch at a port within Area 4B is exempt from the clearance requirements of paragraph (1).

(15) Any vessel that is used to fish for halibut only in Areas 4C or 4D or 4E and lands its total annual halibut catch at a port within Areas 4C, 4D, 4E, or the closed area defined in section 10, is exempt from the clearance requirements of paragraph (1).

(16) Any vessel that carries a transmitting VMS transmitter while fishing for halibut in Area 4A, 4B, 4C, or 4D and until all halibut caught in any of these areas is landed is exempt from the clearance requirements of paragraph (1) of this section, provided that:

(a) The operator of the vessel complies with NMFS' vessel monitoring system regulations published at 50 CFR sections 679.28(f)(3), (4) and (5); and

(b) The operator of the vessel notifies NOAA Fisheries Office for Law Enforcement at 800-304-4846 (select option 1 to speak to an Enforcement Data Clerk) between the hours of 0600 and 0000 (midnight) local time within 72 hours before fishing for halibut in Area 4A, 4B, 4C, or 4D and receives a VMS confirmation number.

16. Logs

(1) The operator of any U.S. vessel fishing for halibut that has an overall length of 26 feet (7.9 meters) or greater shall maintain an accurate log of halibut fishing operations in the Groundfish/IFQ Daily Fishing Longline and Pot Gear Logbook provided by NMFS, or Alaska hook-and-line logbook provided by Petersburg Vessel Owners Association or Alaska Longline Fisherman's Association, or the Alaska Department of Fish and Game (ADF&G) longline-pot logbook, or the logbook provided by IPHC.

(2) The logbook referred to in paragraph (1) must include the following information:

(a) The name of the vessel and the state (ADF&G, WDFW, Oregon Department of Fish and Wildlife, or California Department of Fish and Game) vessel number;

(b) The date(s) upon which the fishing gear is set or retrieved;

(c) The latitude and longitude or loran coordinates or a direction and distance from a point of land for each set or day;

(d) The number of skates deployed or retrieved, and number of skates lost; and

(e) The total weight or number of halibut retained for each set or day.

(3) The logbook referred to in paragraph (1) shall be:

(a) Maintained on board the vessel;

(b) Updated not later than 24 hours after midnight local time for each day fished and prior to the offloading or sale of halibut taken during that fishing trip;

(c) Retained for a period of 2 years by the owner or operator of the vessel;

(d) Open to inspection by an authorized officer or any authorized representative of the Commission upon demand; and

(e) Kept on board the vessel when engaged in halibut fishing, during transits to port of landing, and until the offloading of all halibut is completed.

(4) The log referred to in paragraph (1) does not apply to the incidental halibut fishery during the salmon troll season in Area 2A defined in paragraph (4) of section 8.

(5) The operator of any Canadian vessel fishing for halibut shall maintain an accurate log recorded in the British Columbia Integrated Groundfish Fishing Log provided by DFO.

(6) The logbook referred to in paragraph (5) must include the following information:

(a) The name of the vessel and the DFO vessel number;

(b) The date(s) upon which the fishing gear is set or retrieved;

(c) The latitude and longitude or loran coordinates or a direction and distance from a point of land for each set or day;

(d) The number of skates deployed or retrieved, and number of skates lost; and

(e) The total weight or number of halibut retained for each set or day.

(7) The logbook referred to in paragraph (5) shall be:

(a) Maintained on board the vessel;

(b) Retained for a period of two years by the owner or operator of the vessel;

(c) Open to inspection by an authorized officer or any authorized representative of the Commission upon demand;

(d) Kept on board the vessel when engaged in halibut fishing, during transits to port of landing, and until the offloading of all halibut is completed;

(e) Mailed to the DFO (white copy) within seven days of offloading; and

(f) Mailed to the Commission (yellow copy) within seven days of the final offload if not collected by a Commission employee.

(8) No person shall make a false entry in a log referred to in this section.

17. Receipt and Possession of Halibut

(1) No person shall receive halibut from a United States vessel that does not have on board the license required by section 4.

(2) No person shall possess on board a vessel a halibut other than whole or with gills and entrails removed. Except that this paragraph shall not prohibit the possession on board a vessel:

(a) Halibut cheeks cut from halibut caught by persons authorized to process the halibut on board in accordance with NMFS regulations published at 50 CFR part 679;

(b) Fillets from halibut that have been offloaded in accordance with section 17 may be possessed on board the harvesting vessel in the port of landing up to 1800 hours local time on the calendar day following the offload ⁵; and

⁵ DFO has more restrictive regulations therefore section 17(2)b does not apply to fish caught in Area 2B or landed in British Columbia.

(c) Halibut with their heads removed in accordance with section 13.

(3) No person shall offload halibut from a vessel unless the gills and entrails have been removed prior to offloading. ⁶

⁶ DFO did not adopt this regulation therefore section 17 paragraph 3 does not apply to fish caught in Area 2B.

(4) It shall be the responsibility of a vessel operator who lands halibut to continuously and completely offload at a single offload site all halibut on board the vessel.

(5) A registered buyer (as that term is defined in regulations promulgated by NMFS and codified at 50 CFR part 679) who receives halibut harvested in IFQ and CDQ fisheries in Areas 2C, 3A, 3B, 4A, 4B, 4C, 4D, and 4E, directly from the vessel operator that harvested such halibut must weigh all the halibut received and record the following information on Federal catch reports: date of offload; name of vessel; vessel number; scale weight obtained at the time of offloading, including the weight (in pounds) of halibut purchased by the registered buyer, the weight (in pounds) of halibut offloaded in excess of the IFQ or CDQ, the weight of halibut (in pounds) retained for personal use or for future sale, and the weight (in pounds) of halibut discarded as unfit for human consumption.

(6) The first recipient, commercial fish processor, or buyer in the United States who purchases or receives halibut directly from the vessel operator that harvested such halibut must weigh and record all halibut received and record the following information on state fish tickets: the date of offload, vessel number, total weight obtained at the time of offload including the weight (in pounds) of halibut purchased, the weight (in pounds) of halibut offloaded in excess of the IFQ, CDQ, or fishing period limits, the weight of halibut (in pounds) retained for personal use or for future sale, and the weight (in pounds) of halibut discarded as unfit for human consumption.

(7) The individual completing the state fish tickets for the Area 2A fisheries as referred to in paragraph (6) must additionally record whether the halibut weight is of head-on or head-off fish.

(8) For halibut landings made in Alaska, the requirements as listed in paragraph (5) and (6) can be met by recording the information in the Interagency Electronic Reporting Systems, eLandings.

(9) The master or operator of a Canadian vessel that was engaged in halibut fishing must weigh and record all halibut on board said vessel at the time offloading commences and record on Provincial fish tickets or Federal catch reports the date, locality, name of vessel, the name(s) of the person(s) from whom the halibut was purchased; and the scale weight obtained at the time of offloading of all halibut on board the vessel including the pounds purchased; pounds in excess of IVQs; pounds retained for personal use; and pounds discarded as unfit for human consumption.

(10) No person shall make a false entry on a State or Provincial fish ticket or a Federal catch or landing report referred to in paragraphs (5), (6), and (9) of section 17.

(11) A copy of the fish tickets or catch reports referred to in paragraphs (5), (6), and (9) shall be:

(a) Retained by the person making them for a period of three years from the date the fish tickets or catch reports are made; and

(b) Open to inspection by an authorized officer or any authorized representative of the Commission.

(12) No person shall possess any halibut taken or retained in contravention of these Regulations.

(13) When halibut are landed to other than a commercial fish processor the records required by paragraph (6) shall be maintained by the operator of the vessel from which that halibut was caught, in compliance with paragraph (9).

(14) It shall be unlawful to enter a IPHC license number on a State fish ticket for any vessel other than the vessel actually used in catching the halibut reported thereon.

18. Fishing Multiple Regulatory Areas

(1) Except as provided in this section, no person shall possess at the same time on board a vessel halibut caught in more than one regulatory area.

(2) Halibut caught in more than one of the Regulatory Areas 2C, 3A, or 3B may be possessed on board a vessel at the same time providing the operator of the vessel:

(a) Has a NMFS-certified observer on board when required by NMFS regulations ⁷ published at 50 CFR 679.7(f)(4); and

(b) Can identify the regulatory area in which each halibut on board was caught by separating halibut from different areas in the hold, tagging halibut, or by other means.

⁷ Without an observer, a vessel cannot have on board more halibut than the IFQ for the area that is being fished even if some of the catch occurred earlier in a different area.

(3) Halibut caught in more than one of the Regulatory Areas 4A, 4B, 4C, or 4D may be possessed on board a vessel at the same time providing the operator of the vessel:

(a) Has a NMFS-certified observer on board the vessel when halibut caught in different regulatory areas are on board; and

(b) Can identify the regulatory area in which each halibut on board was caught by separating halibut from different areas in the hold, tagging halibut, or by other means.

(4) Halibut caught in Regulatory Areas 4A, 4B, 4C, and 4D may be possessed on board a vessel when in compliance with paragraph (3) and if halibut from Area 4 are on board the vessel, the vessel can have halibut caught in Regulatory Areas 2C, 3A, and 3B on board if in compliance with paragraph (2).

19. Fishing Gear

(1) No person shall fish for halibut using any gear other than hook and line gear.

(2) No person shall possess halibut taken with any gear other than hook and line gear.

(3) No person shall possess halibut while on board a vessel carrying any trawl nets or fishing pots capable of catching halibut, except that in Areas 2C, 3A, 3B, 4A, 4B, 4C, 4D, or 4E, halibut heads, skin, entrails, bones or fins for use as bait may be possessed on board a vessel carrying pots capable of catching halibut, provided that a receipt documenting purchase or transfer of these halibut parts is on board the vessel.

(4) All setline or skate marker buoys carried on board or used by any United States vessel used for halibut fishing shall be marked with one of the following:

(a) The vessel's state license number; or

(b) The vessel's registration number.

(5) The markings specified in paragraph (4) shall be in characters at least 4 inches (10.2 cm) in height and ½ inch (.3 cm) in width in a contrasting color visible above the water and shall be maintained in legible condition.

(6) All setline or skate marker buoys carried on board or used by a Canadian vessel used for halibut fishing shall be:

(a) Floating and visible on the surface of the water; and

(b) Legibly marked with the identification plate number of the vessel engaged in commercial fishing from which that setline is being operated.

(7) No person on board a vessel from which setline gear was used to fish for any species of fish anywhere in Area 2A during the 72-hour period immediately before the opening of a halibut fishing period shall catch or possess halibut anywhere in those waters during that halibut fishing period.

(8) No vessel from which setline gear was used to fish for any species of fish anywhere in Area 2A during the 72-hour period immediately before the opening of a halibut fishing period may be used to catch or possess halibut anywhere in those waters during that halibut fishing period.

(9) No person on board a vessel from which setline gear was used to fish for any species of fish anywhere in Areas 2B, 2C, 3A, 3B, 4A, 4B, 4C, 4D, or 4E during the 72-hour period immediately before the opening of the halibut fishing season shall catch or possess halibut anywhere in those areas until the vessel has removed all of its setline gear from the water and has either:

(a) Made a landing and completely offloaded its entire catch of other fish; or

(b) Submitted to a hold inspection by an authorized officer.

(10) No vessel from which setline gear was used to fish for any species of fish anywhere in Areas 2B, 2C, 3A, 3B, 4A, 4B, 4C, 4D, or 4E during the 72-hour period immediately before the opening of the halibut fishing season may be used to catch or possess halibut anywhere in those areas until the vessel has removed all of its setline gear from the water and has either:

(a) Made a landing and completely offloaded its entire catch of other fish; or

(b) Submitted to a hold inspection by an authorized officer.

(11) Notwithstanding any other provision in these regulations, a person may retain, possess, and dispose of halibut taken with trawl gear only as authorized by the Prohibited Species Donation regulations of NMFS.

20. Supervision of Unloading and Weighing

The unloading and weighing of halibut may be subject to the supervision of authorized officers to assure the fulfillment of the provisions of these Regulations.

21. Retention of Tagged Halibut

(1) Nothing contained in these Regulations prohibits any vessel at any time from retaining and landing a halibut that bears a Commission external tag at the time of capture, if the halibut with the tag still attached is reported at the time of landing and made available for examination by a representative of the Commission or by an authorized officer.

(2) After examination and removal of the tag by a representative of the Commission or an authorized officer, the halibut:

(a) May be retained for personal use; or

(b) May be sold only if the halibut is caught during commercial halibut fishing and it complies with the other commercial fishing provisions of these regulations.

(3) Externally tagged fish must count against commercial IVQs, CDQs, IFQs, or daily bag or possession limits unless otherwise exempted by state, provincial, or federal regulations.

22. Fishing by United States Treaty Indian Tribes

(1) Halibut fishing in subarea 2A-1 by members of United States treaty Indian tribes located in the State of Washington shall be regulated under regulations promulgated by NMFS and published in the Federal Register.

(2) Subarea 2A-1 includes all waters off the coast of Washington that are north of 46°53′18″ N. lat. and east of 125°44′00″ W. long., and all inland marine waters of Washington.

(3) Section 13 (size limits), section 14 (careful release of halibut), section 16 (logs), section 17 (receipt and possession of halibut) and section 19 (fishing gear), except paragraphs (7) and (8) of section 19, apply to commercial fishing for halibut in subarea 2A-1 by the treaty Indian tribes.

(4) Commercial fishing for halibut in subarea 2A-1 is permitted with hook and line gear from March 5 through November 15, or until 472,000 lbs (214.1 mt) net weight is taken, whichever occurs first.

(5) Ceremonial and subsistence fishing for halibut in subarea 2A-1 is permitted with hook and line gear from January 1 through December 31, and is estimated to take 36,000 lbs (16.3 mt) net weight.

23. Customary and Traditional Fishing in Alaska

(1) Customary and traditional fishing for halibut in Regulatory Areas 2C, 3A, 3B, 4A, 4B, 4C, 4D, and 4E shall be governed pursuant to regulations promulgated by the National Marine Fisheries Service and published in 50 CFR part 300.

(2) Customary and traditional fishing is authorized from January 1 through December 31.

24. Aboriginal Groups Fishing for Food, Social, and Ceremonial Purposes in British Columbia

(1) Fishing for halibut for food, social, and ceremonial purposes by Aboriginal groups in Regulatory Area 2B shall be governed by the Fisheries Act of Canada and regulations as amended from time to time.

25. Sport Fishing for Halibut

(1) No person shall engage in sport fishing for halibut using gear other than a single line with no more than two hooks attached; or a spear.

(2) In all waters off Alaska:

(a) The sport fishing season is from February 1 to December 31;

(b) The daily bag limit is two halibut of any size per day per person.

(3) In all waters off British Columbia:

(a) The sport fishing season is from February 1 to December 31;

(b) The daily bag limit is two halibut of any size per day per person.

(4) In all waters off California, Oregon, and Washington:

(a) The total allowable catch of halibut shall be limited to:

(i) 249,152 lbs (113.0 mt) net weight in waters off Washington; and

(ii) 276,424 lbs (125.4 mt) net weight in waters off California and Oregon;

(b) The sport fishing subareas, subquotas, fishing dates, and daily bag limits are as follows, except as modified under the inseason actions authorized at 50 CFR 300.63(c). All sport fishing in Area 2A is managed on a “port of landing” basis, whereby any halibut landed into a port counts toward the quota for the area in which that port is located, and the regulations governing the area of landing apply, regardless of the specific area of catch.

(i) In Puget Sound and the U.S. waters in the Strait of Juan de Fuca, east of a line extending from 48°17.30′ N. lat., 124°23.70′ W. long. north to 48°24.10′ N. lat., 124°23.70′ W. long., there is no quota. This area is managed by setting a season that is projected to result in a catch of 68,607 lb (31 mt).

(A) The fishing season in eastern Puget Sound (east of 123°49.50′ W. long., Low Point) is April 9 through June 18 and the fishing season in western Puget Sound (west of 123°49.50′ W. long., Low Point) is May 25 through August 5, 5 days a week (Thursday through Monday).

(B) The daily bag limit is one halibut of any size per day per person.

(ii) The quota for landings into ports in the area off the north Washington coast, west of the line described in paragraph (4)(b)(i) of this section and north of the Queets River (47°31.70′ N. lat.), is 119,244 lb (54 mt).

(A) The fishing seasons are:

(1) Commencing on May 9 and continuing 3 days a week (Tuesday, Thursday, and Saturday) until 85,856 lb (39 mt) are estimated to have been taken and the season is closed by the Commission.

(2) From June 22, and continuing thereafter for 2 days a week (Thursday and Saturday) until the overall quota of 119,244 lb (54 mt) are estimated to have been taken and the area is closed by the Commission, or until September 30, whichever is earlier.

(B) The daily bag limit is one halibut of any size per day per person.

(C) A “C-shaped” yelloweye rockfish conservation area southwest of Cape Flattery is closed to sport fishing for halibut. This area is defined by straight lines connecting all of the following points in the order listed:

(1) 48°18.00′ N. lat.; 125°18.00′ W. long.;

(2) 48°18.00′ N. lat.; 124°59.00′ W. long.;

(3) 48°11.00′ N. lat.; 124°59.00′ W. long.;

(4) 48°11.00′ N. lat.; 125°11.00′ W. long.;

(5) 48°04.00′ N. lat.; 125°11.00′ W. long.;

(6) 48°04.00′ N. lat.; 124°59.00′ W. long.;

(7) 48°00.00′ N. lat.; 124°59.00′ W. long.;

(8) 48°00.00′ N. lat.; 125°18.00′ W. long.; and connecting back to 48°18.00′ N. lat.; 125°18.00′ W. long.

(iii) The quota for landings into ports in the area between the Queets River, Washington, (47°31.70′ N. lat.) and Leadbetter Point, Washington, (46°38.17′ N. lat.), is 53,952 lb (24 mt).

(A) The fishing season commences on May 1 and continues 5 days a week (Sunday through Thursday) in all waters, except that in the area from 47°25.00′ N. lat. south to 46°58.00″ N. lat. and east of 124°30.00″ W. long. (i.e., the Washington South coast, northern nearshore area), the fishing season commences on May 1 and continues 7 days a week. The fishery will continue from May 1 until 53,952 lb (24 mt) are estimated to have been taken and the season is closed by the Commission, or until September 30, whichever is earlier. Subsequent to this closure, if there is insufficient quota remaining to reopen the entire subarea for another fishing day, then any remaining quota may be used to accommodate incidental catch in the nearshore area from 47°25.00′ N. lat. south to 46°58.00′ N. lat. and east of 124°30.00′ W. long. on Fridays and Saturdays only, or be transferred inseason to another Washington coastal subarea by NMFS via an update to the recreational halibut hotline.

(B) The daily bag limit is one halibut of any size per day per person.

(iv) The quota for landings into ports in the area between Leadbetter Point, Washington, (46°38.17′ N. lat.) and Cape Falcon, Oregon, (45°46.00′ N. lat.), is 21,170 lb (10 mt).

(A) The fishing season commences on May 1, and continues 7 days a week until 14,819 lb (6.7 mt) are estimated to have been taken and the season is closed by the Commission or until July 16, whichever is earlier. The fishery will reopen on August 4 and continue 3 days a week (Friday through Sunday) until 21,170 lb (10 mt) have been taken and the season is closed by the Commission, or until September 30, whichever is earlier. Subsequent to this closure, if there is insufficient quota remaining in the Columbia River subarea for another fishing day, then any remaining quota may be transferred inseason to another Washington and/or Oregon subarea by NMFS via an update to the recreational halibut hotline. Any remaining quota would be transferred to each state in proportion to its contribution.

(B) The daily bag limit is one halibut of any size per day per person.

(C) Pacific Coast groundfish may not be taken and retained, possessed or landed, except sablefish and Pacific cod when allowed by Pacific Coast groundfish regulations, if halibut are on board the vessel.

(v) The quota for landings into ports in the area off Oregon between Cape Falcon (45°46.00′ N. lat.) and Humbug Mountain (42°40.50′ N. lat.), is 254,310 lb (115 mt).

(A) The fishing seasons are:

(1) The first season (the “inside 40-fm” fishery) commences May 1 and continues 7 days a week through October 31, in the area shoreward of a boundary line approximating the 40-fm (73-m) depth contour, or until the sub-quota for the central Oregon “inside 40-fm” fishery (20,345 lb (9.2 mt)) or any inseason revised subquota is estimated to have been taken and the season is closed by the Commission, whichever is earlier. The boundary line approximating the 40-fm (73-m) depth contour between 45°46.00′ N. lat. and 42°40.50′ N. lat. is defined by straight lines connecting all of the following points in the order stated:

(1) 45°46.00′ N. lat., 124°04.49′ W. long.;

(2) 45°44.34′ N. lat., 124°05.09′ W. long.;

(3) 45°40.64′ N. lat., 124°04.90′ W. long.;

(4) 45°33.00′ N. lat., 124°04.46′ W. long.;

(5) 45°32.27′ N. lat., 124°04.74′ W. long.;

(6) 45°29.26′ N. lat., 124°04.22′ W. long.;

(7) 45°20.25′ N. lat., 124°04.67′ W. long.;

(8) 45°19.99′ N. lat., 124°04.62′ W. long.;

(9) 45°17.50′ N. lat., 124°04.91′ W. long.;

(10) 45°11.29′ N. lat., 124°05.19′ W. long.;

(11) 45°05.79′ N. lat., 124°05.40′ W. long.;

(12) 45°05.07′ N. lat., 124°05.93′ W. long.;

(13) 45°03.83′ N. lat., 124°06.47′ W. long.;

(14) 45°01.70′ N. lat., 124°06.53′ W. long.;

(15) 44°58.75′ N. lat., 124°07.14′ W. long.;

(16) 44°51.28′ N. lat., 124°10.21′ W. long.;

(17) 44°49.49′ N. lat., 124°10.89′ W. long.;

(18) 44°44.96′ N. lat., 124°14.39′ W. long.;

(19) 44°43.44′ N. lat., 124°14.78′ W. long.;

(20) 44°42.27′ N. lat., 124°13.81′ W. long.;

(21) 44°41.68′ N. lat., 124°15.38′ W. long.;

(22) 44°34.87′ N. lat., 124°15.80′ W. long.;

(23) 44°33.74′ N. lat., 124°14.43′ W. long.;

(24) 44°27.66′ N. lat., 124°16.99′ W. long.;

(25) 44°19.13′ N. lat., 124°19.22′ W. long.;

(26) 44°15.35′ N. lat., 124°17.37′ W. long.;

(27) 44°14.38′ N. lat., 124°17.78′ W. long.;

(28) 44°12.80′ N. lat., 124°17.18′ W. long.;

(29) 44°09.23′ N. lat., 124°15.96′ W. long.;

(30) 44°08.38′ N. lat., 124°16.80′ W. long.;

(31) 44°08.30′ N. lat., 124°16.75′ W. long.;

(32) 44°01.18′ N. lat., 124°15.42′ W. long.;

(33) 43°51.60′ N. lat., 124°14.68′ W. long.;

(34) 43°42.66′ N. lat., 124°15.46′ W. long.;

(35) 43°40.49′ N. lat., 124°15.74′ W. long.;

(36) 43°38.77′ N. lat., 124°15.64′ W. long.;

(37) 43°34.52′ N. lat., 124°16.73′ W. long.;

(38) 43°28.82′ N. lat., 124°19.52′ W. long.;

(39) 43°23.91′ N. lat., 124°24.28′ W. long.;

(40) 43°20.83′ N. lat., 124°26.63′ W. long.;

(41) 43°17.96′ N. lat., 124°28.81′ W. long.;

(42) 43°16.75′ N. lat., 124°28.42′ W. long.;

(43) 43°13.98′ N. lat., 124°31.99′ W. long.;

(44) 43°13.71′ N. lat., 124°33.25′ W. long.;

(45) 43°12.26′ N. lat., 124°34.16′ W. long.;

(46) 43°10.96′ N. lat., 124°32.34′ W. long.;

(47) 43°05.65′ N. lat., 124°31.52′ W. long.;

(48) 42°59.66′ N. lat., 124°32.58′ W. long.;

(49) 42°54.97′ N. lat., 124°36.99′ W. long.;

(50) 42°53.81′ N. lat., 124°38.58′ W. long.;

(51) 42°50.00′ N. lat., 124°39.68′ W. long.;

(52) 42°49.14′ N. lat., 124°39.92′ W. long.;

(53) 42°46.47′ N. lat., 124°38.65′ W. long.;

(54) 42°45.60′ N. lat., 124°39.04′ W. long.;

(55) 42°44.79′ N. lat., 124°37.96′ W. long.;

(56) 42°45.00′ N. lat., 124°36.39′ W. long.;

(57) 42°44.14′ N. lat., 124°35.16′ W. long.;

(58) 42°42.15′ N. lat., 124°32.82′ W. long.; and

(59) 42°40.50′ N. lat., 124°31.98′ W. long.;

(2) The second season (spring season), which is for the “all-depth” fishery, is open on May 11, 12, 13, 18, 19, 20, 25, 26, 27, and June 1, 2, 3, 8, 9, 10. The projected catch for this season is 175,474 lb (80 mt). If sufficient unharvested catch remains for additional fishing days, the season will re-open. Dependent on the amount of unharvested catch available, the potential season re-opening dates will be: June 22, 23, 24, and July 6, 7, 8, 20, 21, 22. If NMFS decides inseason to allow fishing on any of these re-opening dates, notice of the re-opening will be announced on the NMFS hotline (206) 526-6667 or (800) 662-9825. No halibut fishing will be allowed on the re-opening dates unless the date is announced on the NMFS hotline.

(3) If sufficient unharvested catch remains, the third season (summer season), which is for the “all-depth” fishery, will be open on August 4, 5, 6, 18, 19, 20, September 1, 2, 3, 15, 16, 17, 29, 30, and October 1, 13, 14, 15, 27, 28, 29, or until the combined spring season and summer season quotas in the area between Cape Falcon and Humbug Mountain, Oregon, totaling 233,965 lb (106 mt), are estimated to have been taken and the area is closed by the Commission, or October 31, whichever is earlier. NMFS will announce on the NMFS hotline in July if the fishery will re-open for the summer season in August. No halibut fishing will be allowed in the summer season fishery unless the dates are announced on the NMFS hotline. Additional fishing days may be opened if a certain amount of quota remains after August 6 and September 3. If after August 6, greater than or equal to 60,000 lb (27.2 mt) remains in the combined all-depth and inside 40-fm (73-m) quota, the fishery may re-open every Friday through Sunday, beginning August 11-13, and ending October 27-29. If after September 3, greater than or equal to 30,000 lb (13.6 mt) remains in the combined all-depth and inside 40-fm (73-m) quota, and the fishery is not already open every Friday through Sunday, the fishery may re-open every Friday through Sunday, beginning September 8-10, and ending October 27-29 and may have a bag limit of two fish of any size per person, per day. NMFS will announce on the NMFS hotline whether the summer all-depth fishery will be open on such additional fishing days, days the fishery will be open, and the bag limit.

(B) The daily bag limit is one halibut of any size per day per person, unless otherwise specified. NMFS will announce on the NMFS hotline any bag limit changes.

(C) During days open to all-depth halibut fishing, no Pacific Coast groundfish may be taken and retained, possessed or landed, except sablefish when allowed by Pacific Coast groundfish regulations, if halibut are on board the vessel.

(D) When the all-depth halibut fishery is closed and halibut fishing is permitted only shoreward of a boundary line approximating the 40-fm (73-m) depth contour, halibut possession and retention by vessels operating seaward of a boundary line approximating the 40-fm (73-m) depth contour is prohibited.

(E) A yelloweye rockfish conservation area off central Oregon, near Stonewall Bank, is closed to sport fishing for halibut. This area is defined by straight lines connecting all of the following points in the order listed:

(1) 44°37.46 N. lat.; 124°24.92′ W. long.;

(2) 44°37.46 N. lat.; 124°23.63′ W. long.;

(3) 44°28.71 N. lat.; 124°21.80′ W. long.;

(4) 44°28.71 N. lat.; 124°24.10′ W. long.;

(5) 44°31.42 N. lat.; 124°25.47′ W. long.;

(6) and connecting back to 44°37.46′ N. lat.; 124°24.92′ W. long.

(vi) In the area south of Humbug Mountain, Oregon (42°40.50′ N. lat.) and off the California coast, there is no quota. This area is managed on a season that is projected to result in a catch of 8,293 lb (3.8 mt).

(A) The fishing season will commence on May 1 and continue 7 days a week until October 31.

(B) The daily bag limit is one halibut of any size per day per person.

(c) The Commission shall determine and announce closing dates to the public for any area in which the catch limits promulgated by NMFS are estimated to have been taken.

(d) When the Commission has determined that a subquota under paragraph (4)(b) of this section is estimated to have been taken, and has announced a date on which the season will close, no person shall sport fish for halibut in that area after that date for the rest of the year, unless a reopening of that area for sport halibut fishing is scheduled in accordance with the Catch Sharing Plan for Area 2A, or announced by the Commission.

(5) Any minimum overall size limit promulgated under IPHC or NMFS regulations shall be measured in a straight line passing over the pectoral fin from the tip of the lower jaw with the mouth closed, to the extreme end of the middle of the tail.

(6) No person shall fillet, mutilate, or otherwise disfigure a halibut in any manner that prevents the determination of minimum size or the number of fish caught, possessed, or landed.

(7) The possession limit for halibut in the waters off the coast of Alaska is two daily bag limits.

(8) The possession limit for halibut in the waters off the coast of British Columbia is three halibut.

(9) The possession limit on a vessel for halibut in the waters off the coast of Washington is the same as the daily bag limit.

(10) The possession limit on land in Washington for halibut caught in:

(a) U.S. waters off the coast of Washington is two halibut; and

(b) Canadian waters off the coast of British Columbia is three halibut.

(11) The possession limit on a vessel for halibut caught in the waters off the coast of Oregon and California is the same as the daily bag limit.

(12) The possession limit for halibut on land in Oregon is three daily bag limits.

(13) The possession limit for halibut on land in California is two daily bag limits.

(14) Any halibut brought aboard a vessel and not immediately returned to the sea with a minimum of injury will be included in the daily bag limit of the person catching the halibut.

(15) No person shall be in possession of halibut on a vessel while fishing in a closed area.

(16) No halibut caught by sport fishing shall be offered for sale, sold, traded, or bartered.

(17) No halibut caught in sport fishing shall be possessed on board a vessel when other fish or shellfish aboard the said vessel are destined for commercial use, sale, trade, or barter.

(18) The operator of a charter vessel shall be liable for any violations of these regulations committed by a passenger aboard said vessel.

26. Previous Regulations Superseded

These regulations shall supersede all previous regulations of the Commission, and these regulations shall be effective each succeeding year until superseded.

Classification

IPHC Regulations

This final rule has been determined to be not significant for the purposes of Executive Order 12866.

The notice-and-comment and delay-in-effectiveness date requirements of the Administrative Procedure Act (APA), 5 U.S.C. 553, are inapplicable to this notice of the effectiveness and content of the IPHC regulations because this regulation involves a foreign affairs function of the United States, 5 U.S.C. 553(a)(1). Furthermore, no other law requires prior notice and public comment for this final rule. Because prior notice and an opportunity for public comment are not required to be provided for these portions of this rule by 5 U.S.C. 553, or any other law, the analytical requirements of the Regulatory Flexibility Act, 5 U.S.C. 601 et seq., are not applicable.

Catch Sharing Plan for Area 2A

This action has been determined to be not significant for purposes of Executive Order 12866.

The AA finds good cause to waive the requirement to provide a 30-day delay in effectiveness (5 U.S.C. 553(d)) because it is contrary to the public interest to delay the effectiveness date of this rule for 30 days. This final rule must be made effective for the opening of the 2006 Pacific halibut fishing season on March 5, 2006. Delaying the opening of the fishing season is contrary to the public interest because it would cause unnecessary economic burden on fishery participants due to loss of fishing opportunity. Because the annual quotas and management measures are ultimately determined by an international commission, the IPHC, the AA is constrained and cannot publish the final rule until after the IPHC has adopted the annual quotas and management measures for the year. NMFS's implementation of the CSP in Area 2A could not begin until after January 20, 2006, when the IPHC adopted annual quotas and management measures for 2006. There was not enough time between when the IPHC adopted the annual quotas and management measures for 2006 and the scheduled March 5, 2006, start of the fishing season to publish the regulations in the Federal Register with enough time for a 30-day delay in effectiveness.

NMFS prepared a final regulatory flexibility analysis (FRFA) for this action. An FRFA incorporates the Initial Regulatory Flexibility Analysis (IRFA), a summary of the significant issues raised by the public comments in response to the IRFA, if any, and NMFS responses to those comments, and a summary of the analyses completed to support the action. A copy of this analysis is available from the NMFS Northwest Region (see ADDRESSES) and a summary of the FRFA follows:

This final rule is needed to implement the CSP and annual domestic management measures in Area 2A. The main objective for the Pacific halibut fishery in Area 2A is to manage the fisheries to remain within the TAC for Area 2A, while also allowing each commercial, recreational, and tribal fishery to target halibut in the manner most appropriate for the users' needs within that fishery. This rule is intended to enhance the conservation of Pacific halibut, to protect yelloweye rockfish and other overfished species from incidental catch in the halibut fisheries, and to provide greater angler opportunity where available.

The agency received three letters of comment on the proposed rule, but none of the comments received addressed the IRFA.

In determining the potential universe of entities subject to this rule, NMFS considered those entities to which this rule applies. Although many small and large nonprofit enterprises track fisheries management issues on the West Coast, the changes to the Plan and annual management measures will not directly affect those enterprises. Similarly, although many fishing communities are small governmental jurisdictions, no direct regulations for those governmental jurisdictions will result from this rule. However, charterboat operations and participants off the coasts of Washington and Oregon are small businesses that are directly regulated and affected by changes made by this rule.

Approximately 750 vessels were issued IPHC licenses to retain halibut in 2005. IPHC issues licenses for: the directed non-tribal commercial fishery in Area 2A, including licenses issued to retain halibut caught incidentally in the primary sablefish fishery (215 licenses in 2005); incidental halibut caught in the salmon troll fishery (392 licenses in 2005); and the charterboat fleet (148 licenses issued in 2005). No vessel may participate in more than one of these three separate fisheries per year. Individual recreational anglers and private boats are the only participants not required to have an IPHC license to retain halibut.

Specific data on the economics of halibut charter operations is unavailable. However, in January 2004, the Pacific States Marine Fisheries Commission (Commission) completed a report on the overall West Coast charterboat fleet. In surveying charterboat vessels concerning their operations in 2000, the Commission estimated that there were about 315 charterboat vessels in operation off Washington and Oregon. Compared with the 148 IPHC licenses in 2005, this estimate suggests that approximately 45 percent of the charterboat fleet participates in the halibut fishery. The Commission has developed preliminary estimates of the annual revenues earned by this fleet and they vary by size class of the vessels and home state. Small charterboat vessels range from 15 to 30 ft (4.572 to 9.144 m), and typically carry 5 to 6 passengers. Medium charterboat vessels range from 31 to 49 ft (9.44 to 14.93 m) in length and typically carry 19 to 20 passengers. (Neither state has large vessels of greater than 49 ft (14.93 m) in their fleet.) Average annual revenues from all types of recreational fishing, whalewatching and other activities ranged from $7,000 for small Oregon vessels to $131,000 for medium Washington vessels. These data confirm that charterboat vessels qualify as small entities under the Regulatory Flexibility Act (RFA).

For each of the 2006 revisions, NMFS is implementing a CSP or regulatory revision intended to improve flexibility for anglers, or to improve enforceability of halibut regulations. The changes to the CSP and annual domestic Area 2A management measures are expected to result in either no impact at all, or a modest increase in fishing opportunity for commercial and sport halibut fishermen and operators. The 2006 sport fishery management measures implement the CSP by managing the recreational fishery to meet the differing fishery needs of the various areas along the coast according to the CSP's objectives. The commercial fishery management measures will allow the fishery access to a portion of the Area 2A TAC while protecting overfished rockfish species that co-occur with halibut. The measures will be very similar to last year's management measures. The changes to the CSP and domestic management measures are minor changes and are intended to increase flexibility in management and opportunity to harvest available quota. There are no large entities involved in the halibut fisheries; therefore, none of the changes to the CSP and domestic management measures will have a disproportionate negative effect on small entities versus large entities. None of these changes to the CSP will significantly reduce profitability for small entities. In fact, increasing opportunity to harvest available quota and increasing the area available to fishing may increase profitability for some small entities along the West Coast.

This final rule does not impose any new reporting or recordkeeping requirements. This final rule will also not duplicate, overlap, or conflict with other laws or regulations. Consequently, these changes to the CSP and annual domestic Area 2A halibut management measures do not meet any of the RFA tests of having a “significant” economic impact on a “substantial number” of small entities.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of halibut management in Area 2A, NMFS maintains a toll-free telephone hotline where members of the public may call in to receive current information on seasons and requirements to participate in the halibut fisheries in Area 2A. This hotline also serves as small entity compliance guide. Copies of this final rule are available from the NMFS Northwest Regional Office upon request (See ADDRESSES). To hear the small entity compliance guide associated with this final rule, call the NMFS hotline at 800-662-9825.

Pursuant to Executive Order 13175, the Secretary recognizes the sovereign status and co-manager role of Indian tribes over shared Federal and tribal fishery resources. At section 305(b)(5), the Magnuson-Stevens Fishery Conservation and Management Act establishes a seat on the Pacific Council for a representative of an Indian tribe with federally recognized fishing rights from California, Oregon, Washington, or Idaho. The U.S. Government formally recognizes that the 12 Washington Tribes have treaty rights to fish for Pacific halibut. In general terms, the quantification of those rights is 50 percent of the harvestable surplus of Pacific halibut available in the tribes' usual and accustomed fishing areas (described at 50 CFR 300.64). Each of the treaty tribes has the discretion to administer their fisheries and to establish their own policies to achieve program objectives. Accordingly, tribal allocations and regulations, including the proposed changes to the CSP, have been developed in consultation with the affected tribe(s) and, insofar as possible, with tribal consensus.

List of Subjects in 50 CFR Part 300

Fisheries, Fishing, Reporting and recordkeeping requirements, Treaties.

Dated: February 28, 2006.
James W. Balsiger,
Acting Deputy Assistant Administrator for Regulatory Programs, National Marine Fisheries Service.

For the reasons set out in the preamble, 50 CFR part 300 is amended as follows:

PART 300—INTERNATIONAL FISHERIES REGULATIONS

1. The authority citation for part 300 continues to read as follows:

Authority: 16 U.S.C. 773 et seq.

2. In § 300.63, paragraph (b)(3) is revised, and paragraphs (c) through (g) are added to read as follows:

§ 300.63 Catch sharing plan and domestic management measures in Area 2A.

* * * * *

(b) * * *

(3) A portion of the Area 2A Washington recreational TAC is allocated as incidental catch in the primary directed longline sablefish fishery north of 46°53.30′ N. lat, (Pt. Chehalis, Washington), which is regulated under 50 CFR 660.372. This fishing opportunity is only available in years in which the Area 2A TAC is greater than 900,000 lb (408.2 mt,) provided that a minimum of 10,000 lb (4.5 mt) is available above a Washington recreational TAC of 214,100 lb (97.1 mt). Each year that this harvest is available, the landing restrictions necessary to keep this fishery within its allocation will be recommended by the Pacific Fishery Management Council at its spring meetings, and will be published in the Federal Register. These restrictions will be designed to ensure the halibut harvest is incidental to the sablefish harvest and will be based on the amounts of halibut and sablefish available to this fishery, and other pertinent factors. The restrictions may include catch or landing ratios, landing limits, or other means to control the rate of halibut landings.

(i) In years when this incidental harvest of halibut in the directed sablefish fishery north of 46°53.30′ N. lat. is allowed, it is allowed only for vessels using longline gear that are registered to groundfish limited entry permits with sablefish endorsements and that possess the appropriate incidental halibut harvest license issued by the Commission.

(ii) It is unlawful for any person to possess, land or purchase halibut south of 46°53.30′ N. lat. that were taken and retained as incidental catch authorized by this section in the directed longline sablefish fishery.

* * * * *

(c) Flexible Inseason Management Provisions for Sport Halibut Fisheries in Area 2A.

(1) The Regional Administrator, NMFS Northwest Region, after consultation with the Chairman of the Pacific Fishery Management Council, the Commission Executive Director, and the Fisheries Director(s) of the affected state(s), or their designees, is authorized to modify regulations during the season after making the following determinations:

(i) The action is necessary to allow allocation objectives to be met.

(ii) The action will not result in exceeding the catch limit for the area.

(iii) If any of the sport fishery subareas north of Cape Falcon, Oregon are not projected to utilize their respective quotas by September 30, NMFS may take inseason action to transfer any projected unused quota to another Washington sport subarea.

(iv) If any of the sport fishery subareas south of Leadbetter Point, Washington, are not projected to utilize their respective quotas by their season ending dates, NMFS may take inseason action to transfer any projected unused quota to another Oregon sport subarea.

(2) Flexible inseason management provisions include, but are not limited to, the following:

(i) Modification of sport fishing periods;

(ii) Modification of sport fishing bag limits;

(iii) Modification of sport fishing size limits;

(iv) Modification of sport fishing days per calendar week; and

(v) Modification of subarea quotas north of Cape Falcon, Oregon.

(3) Notice procedures. (i) Actions taken under this section will be published in the Federal Register.

(ii) Actual notice of inseason management actions will be provided by a telephone hotline administered by the Northwest Region, NMFS, at 206-526-6667 or 800-662-9825 (May through October) and by U.S. Coast Guard broadcasts. These broadcasts are announced on Channel 16 VHF-FM and 2182 kHz at frequent intervals. The announcements designate the channel or frequency over which the notice to mariners will be immediately broadcast. Since provisions of these regulations may be altered by inseason actions, sport fishers should monitor either the telephone hotline or U.S. Coast Guard broadcasts for current information for the area in which they are fishing.

(4) Effective dates. (i) Any action issued under this section is effective on the date specified in the publication or at the time that the action is filed for public inspection with the Office of the Federal Register, whichever is later.

(ii) If time allows, NMFS will invite public comment prior to the effective date of any inseason action filed with the Federal Register. If the Regional Administrator determines, for good cause, that an inseason action must be filed without affording a prior opportunity for public comment, public comments will be received for a period of 15 days after publication of the action in the Federal Register.

(iii) Any inseason action issued under this section will remain in effect until the stated expiration date or until rescinded, modified, or superseded. However, no inseason action has any effect beyond the end of the calendar year in which it is issued.

(5) Availability of data. The Regional Administrator will compile, in aggregate form, all data and other information relevant to the action being taken and will make them available for public review during normal office hours at the Northwest Regional Office, NMFS, Sustainable Fisheries Division, 7600 Sand Point Way NE, Seattle, Washington.

(d) Fishery Election in Area 2A. (1) A vessel that fishes in Area 2A may participate in only one of the following three fisheries in Area 2A:

(i) The sport fishery under Section 24 of the annual domestic management measures and IPHC regulations;

(ii) The commercial directed fishery for halibut during the fishing period(s) established in section 8 of the annual domestic management measures and IPHC regulations and/or the incidental retention of halibut during the primary sablefish fishery described at 50 CFR 660.372; or

(iii) The incidental catch fishery during the salmon troll fishery as authorized in section 8 of the annual domestic management measures and IPHC regulations.

(2) No person shall fish for halibut in the sport fishery in Area 2A under section 24 of the annual domestic management measures and IPHC regulations from a vessel that has been used during the same calendar year for commercial halibut fishing in Area 2A or that has been issued a permit for the same calendar year for the commercial halibut fishery in Area 2A.

(3) No person shall fish for halibut in the directed commercial halibut fishery during the fishing periods established in section 8 of the annual domestic management measures and IPHC regulations and/or retain halibut incidentally taken in the primary sablefish fishery in Area 2A from a vessel that has been used during the same calendar year for the incidental catch fishery during the salmon troll fishery as authorized in Section 8 of the annual domestic management measures and IPHC regulations.

(4) No person shall fish for halibut in the directed commercial halibut fishery and/or retain halibut incidentally taken in the primary sablefish fishery in Area 2A from a vessel that, during the same calendar year, has been used in the sport halibut fishery in Area 2A or that is licensed for the sport charter halibut fishery in Area 2A.

(5) No person shall retain halibut in the salmon troll fishery in Area 2A as authorized under section 8 of the annual domestic management measures and IPHC regulations taken on a vessel that, during the same calendar year, has been used in the sport halibut fishery in Area 2A, or that is licensed for the sport charter halibut fishery in Area 2A.

(6) No person shall retain halibut in the salmon troll fishery in Area 2A as authorized under section 8 of the annual domestic management measures and IPHC regulations taken on a vessel that, during the same calendar year, has been used in the directed commercial halibut fishery during the fishing periods established in Section 8 of the annual domestic management measures and IPHC regulations and/or retained halibut incidentally taken in the primary sablefish fishery for Area 2A or that is licensed to participate in these commercial fisheries during the fishing periods established in Section 8 of the annual domestic management measures and IPHC regulations in Area 2A.

(e) Area 2A Non-Treaty Commercial Fishery Closed Areas. Non-treaty commercial vessels operating in the directed commercial fishery for halibut in Area 2A are required to fish outside of a closed area, known as the Rockfish Conservation Area (RCA), that extends along the coast from the U.S./Canada border south to 40°10′ N. lat. Between the U.S./Canada border and 46°16′ N. lat., the eastern boundary of the RCA is the shoreline. Between 46°16′ N. lat. and 40°10′ N. lat., the RCA is defined along an eastern boundary approximating the 30-fm (55-m) depth contour. Coordinates for the 30-fm (55-m) boundary are listed at § 300.63 (f). Between the U.S./Canada border and 40°10′ N. lat., the RCA is defined along a western boundary approximating the 100-fm (183-m) depth contour. Coordinates for the 100-fm (183-m) boundary are listed at § 300.63 (g).

(f) The 30-fm (55-m) depth contour between 46°16′ N. lat. and 40°10′ N. lat. is defined by straight lines connecting all of the following points in the order stated:

(1) 46°16.00′ N. lat., 124°13.05′ W. long.;

(2) 46°07.00′ N. lat., 124°07.01′ W. long.;

(3) 45°55.95′ N. lat., 124°02.23′ W. long.;

(4) 45°54.53′ N. lat., 124°02.57′ W. long.;

(5) 45°50.65′ N. lat., 124°01.62′ W. long.;

(6) 45°48.20′ N. lat., 124°02.16′ W. long.;

(7) 45°46.00′ N. lat., 124°01.86′ W. long.;

(8) 45°43.47′ N. lat., 124°01.28′ W. long.;

(9) 45°40.48′ N. lat., 124°01.03′ W. long.;

(10) 45°39.04′ N. lat., 124°01.68′ W. long.;

(11) 45°35.48′ N. lat., 124°01.89′ W. long.;

(12) 45°29.81′ N. lat., 124°02.45′ W. long.;

(13) 45°27.96′ N. lat., 124°01.89′ W. long.;

(14) 45°27.22′ N. lat., 124°02.67′ W. long.;

(15) 45°24.20′ N. lat., 124°02.94′ W. long.;

(16) 45°20.60′ N. lat., 124°01.74′ W. long.;

(17) 45°20.25′ N. lat., 124°01.85′ W. long.;

(18) 45°16.44′ N. lat., 124°03.22′ W. long.;

(19) 45°13.63′ N. lat., 124°02.70′ W. long.;

(20) 45°11.04′ N. lat., 124°03.59′ W. long.;

(21) 45°08.55′ N. lat., 124°03.47′ W. long.;

(22) 45°02.82′ N. lat., 124°04.64′ W. long.;

(23) 45°03.38′ N. lat., 124°04.79′ W. long.;

(24) 44°58.06′ N. lat., 124°05.03′ W. long.;

(25) 44°53.97′ N. lat., 124°06.92′ W. long.;

(26) 44°48.89′ N. lat., 124°07.04′ W. long.;

(27) 44°46.94′ N. lat., 124°08.25′ W. long.;

(28) 44°42.72′ N. lat., 124°08.98′ W. long.;

(29) 44°38.16′ N. lat., 124°11.48′ W. long.;

(30) 44°33.38′ N. lat., 124°11.54′ W. long.;

(31) 44°28.51′ N. lat., 124°12.03′ W. long.;

(32) 44°27.65′ N. lat., 124°12.56′ W. long.;

(33) 44°19.67′ N. lat., 124°12.37′ W. long.;

(34) 44°10.79′ N. lat., 124°12.22′ W. long.;

(35) 44°09.22′ N. lat., 124°12.28′ W. long.;

(36) 44°08.30′ N. lat., 124°12.30′ W. long.;

(37) 44°00.22′ N. lat., 124°12.80′ W. long.;

(38) 43°51.56′ N. lat., 124°13.17′ W. long.;

(39) 43°44.26′ N. lat., 124°14.50′ W. long.;

(40) 43°33.82′ N. lat., 124°16.28′ W. long.;

(41) 43°28.66′ N. lat., 124°18.72′ W. long.;

(42) 43°23.12′ N. lat., 124°24.04′ W. long.;

(43) 43°20.83′ N. lat., 124°25.67′ W. long.;

(44) 43°20.49′ N. lat., 124°25.90′ W. long.;

(45) 43°16.41′ N. lat., 124°27.52′ W. long.;

(46) 43°14.23′ N. lat., 124°29.28′ W. long.;

(47) 43°14.03′ N. lat., 124°28.31′ W. long.;

(48) 43°11.92′ N. lat., 124°28.26′ W. long.;

(49) 43°11.02′ N. lat., 124°29.11′ W. long.;

(50) 43°10.13′ N. lat., 124°29.15′ W. long.;

(51) 43°09.27′ N. lat., 124°31.03′ W. long.;

(52) 43°07.73′ N. lat., 124°30.92′ W. long.;

(53) 43°05.93′ N. lat., 124°29.64′ W. long.;

(54) 43°01.59′ N. lat., 124°30.64′ W. long.;

(55) 42°59.73′ N. lat., 124°31.16′ W. long.;

(56) 42°53.75′ N. lat., 124°36.09′ W. long.;

(57) 42°50.00′ N. lat., 124°38.39′ W. long.;

(58) 42°49.37′ N. lat., 124°38.81′ W. long.;

(59) 42°46.42′ N. lat., 124°37.69′ W. long.;

(60) 42°46.07′ N. lat., 124°38.56′ W. long.;

(61) 42°45.29′ N. lat., 124°37.95′ W. long.;

(62) 42°45.61′ N. lat., 124°36.87′ W. long.;

(63) 42°44.28′ N. lat., 124°33.64′ W. long.;

(64) 42°42.75′ N. lat., 124°31.84′ W. long.;

(65) 42°40.50′ N. lat., 124°29.67′ W. long.;

(66) 42°40.04′ N. lat., 124°29.19′ W. long.;

(67) 42°38.09′ N. lat., 124°28.39′ W. long.;

(68) 42°36.72′ N. lat., 124°27.54′ W. long.;

(69) 42°36.56′ N. lat., 124°28.40′ W. long.;

(70) 42°35.76′ N. lat., 124°28.79′ W. long.;

(71) 42°34.03′ N. lat., 124°29.98′ W. long.;

(72) 42°34.19′ N. lat., 124°30.58′ W. long.;

(73) 42°31.27′ N. lat., 124°32.24′ W. long.;

(74) 42°27.07′ N. lat., 124°32.53′ W. long.;

(75) 42°24.21′ N. lat., 124°31.23′ W. long.;

(76) 42°20.47′ N. lat., 124°28.87′ W. long.;

(77) 42°14.60′ N. lat., 124°26.80′ W. long.;

(78) 42°13.67′ N. lat., 124°26.25′ W. long.;

(79) 42°10.90′ N. lat., 124°24.57′ W. long.;

(80) 42°07.04′ N. lat., 124°23.35′ W. long.;

(81) 42°02.16′ N. lat., 124°22.59′ W. long.;

(82) 42°00.00′ N. lat., 124°21.81′ W. long.;

(83) 41°55.75′ N. lat., 124°20.72′ W. long.;

(84) 41°50.93′ N. lat., 124°23.76′ W. long.;

(85) 41°42.53′ N. lat., 124°16.47′ W. long.;

(86) 41°37.20′ N. lat., 124°17.05′ W. long.;

(87) 41°24.58′ N. lat., 124°10.51′ W. long.;

(88) 41°20.73′ N. lat., 124°11.73′ W. long.;

(89) 41°17.59′ N. lat., 124°10.66′ W. long.;

(90) 41°04.54′ N. lat., 124°14.47′ W. long.;

(91) 40°54.26′ N. lat., 124°13.90′ W. long.;

(92) 40°40.31′ N. lat., 124°26.24′ W. long.;

(93) 40°34.00′ N. lat., 124°27.39′ W. long.;

(94) 40°30.00′ N. lat., 124°31.32′ W. long.;

(95) 40°28.89′ N. lat., 124°32.43′ W. long.;

(96) 40°24.77′ N. lat., 124°29.51′ W. long.;

(97) 40°22.47′ N. lat., 124°24.12′ W. long.;

(98) 40°19.73′ N. lat., 124°23.59′ W. long.;

(99) 40°18.64′ N. lat., 124°21.89′ W. long.;

(100) 40°17.67′ N. lat., 124°23.07′ W. long.;

(101) 40°15.58′ N. lat., 124°23.61′ W. long.;

(102) 40°13.42′ N. lat., 124°22.94′ W. long.; and

(103) 40°10.00′ N. lat., 124°16.65′ W. long.

(g) The 100-fm (183-m) depth contour between the U.S./Canada border and 40°10′ N. lat. is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°46.00′ N. lat., 124°32.10′ W. long.;

(96) 45°41.75′ N. lat., 124°28.12′ W. long.;

(97) 45°36.96′ N. lat., 124°24.48′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.38′ N. lat., 124°18.36′ W. long.;

(104) 45°03.83′ N. lat., 124°18.60′ W. long.;

(105) 44°58.05′ N. lat., 124°21.58′ W. long.;

(106) 44°47.67′ N. lat., 124°31.41′ W. long.;

(107) 44°44.55′ N. lat., 124°33.58′ W. long.;

(108) 44°39.88′ N. lat., 124°35.01′ W. long.;

(109) 44°32.90′ N. lat., 124°36.81′ W. long.;

(110) 44°30.33′ N. lat., 124°38.56′ W. long.;

(111) 44°30.04′ N. lat., 124°42.31′ W. long.;

(112) 44°26.84′ N. lat., 124°44.91′ W. long.;

(113) 44°17.99′ N. lat., 124°51.03′ W. long.;

(114) 44°13.68′ N. lat., 124°56.38′ W. long.;

(115) 44°08.30′ N. lat., 124°55.99′ W. long.;

(116) 43°56.67′ N. lat., 124°55.45′ W. long.;

(117) 43°56.47′ N. lat., 124°34.61′ W. long.;

(118) 43°42.73′ N. lat., 124°32.41′ W. long.;

(119) 43°30.93′ N. lat., 124°34.43′ W. long.;

(120) 43°20.83′ N. lat., 124°39.39′ W. long.;

(121) 43°17.45′ N. lat., 124°41.16′ W. long.;

(122) 43°07.04′ N. lat., 124°41.25′ W. long.;

(123) 43°03.45′ N. lat., 124°44.36′ W. long.;

(124) 43°03.90′ N. lat., 124°50.81′ W. long.;

(125) 42°55.70′ N. lat., 124°52.79′ W. long.;

(126) 42°54.12′ N. lat., 124°47.36′ W. long.;

(127) 42°50.00′ N. lat., 124°45.33′ W. long.;

(128) 42°44.00′ N. lat., 124°42.38′ W. long.;

(129) 42°40.50′ N. lat., 124°41.71′ W. long.;

(130) 42°38.23′ N. lat., 124°41.25′ W. long.;

(131) 42°33.03′ N. lat., 124°42.38′ W. long.;

(132) 42°31.89′ N. lat., 124°42.04′ W. long.;

(133) 42°30.09′ N. lat., 124°42.67′ W. long.;

(134) 42°28.28′ N. lat., 124°47.08′ W. long.;

(135) 42°25.22′ N. lat., 124°43.51′ W. long.;

(136) 42°19.23′ N. lat., 124°37.92′ W. long.;

(137) 42°16.29′ N. lat., 124°36.11′ W. long.;

(138) 42°13.67′ N. lat., 124°35.81′ W. long.;

(139) 42°05.66′ N. lat., 124°34.92′ W. long.;

(140) 42°00.00′ N. lat., 124°35.27′ W. long.;

(141) 41°47.04′ N. lat., 124°27.64′ W. long.;

(142) 41°32.92′ N. lat., 124°28.79′ W. long.;

(143) 41°24.17′ N. lat., 124°28.46′ W. long.;

(144) 41°10.12′ N. lat., 124°20.50′ W. long.;

(145) 40°51.41′ N. lat., 124°24.38′ W. long.;

(146) 40°43.71′ N. lat., 124°29.89′ W. long.;

(147) 40°40.14′ N. lat., 124°30.90′ W. long.;

(148) 40°37.35′ N. lat., 124°29.05′ W. long.;

(149) 40°34.76′ N. lat., 124°29.82′ W. long.;

(150) 40°36.78′ N. lat., 124°37.06′ W. long.;

(151) 40°32.44′ N. lat., 124°39.58′ W. long.;

(152) 40°30.00′ N. lat., 124°38.13′ W. long.;

(153) 40°24.82′ N. lat., 124°35.12′ W. long.;

(154) 40°23.30′ N. lat., 124°31.60′ W. long.;

(155) 40°23.52′ N. lat., 124°28.78′ W. long.;

(156) 40°22.43′ N. lat., 124°25.00′ W. long.;

(157) 40°21.72′ N. lat., 124°24.94′ W. long.;

(158) 40°21.87′ N. lat., 124°27.96′ W. long.;

(159) 40°21.40′ N. lat., 124°28.74′ W. long.;

(160) 40°19.68′ N. lat., 124°28.49′ W. long.;

(161) 40°17.73′ N. lat., 124°25.43′ W. long.;

(162) 40°18.37′ N. lat., 124°23.35′ W. long.;

(163) 40°15.75′ N. lat., 124°26.05′ W. long.;

(164) 40°16.75′ N. lat., 124°33.71′ W. long.;

(165) 40°16.29′ N. lat., 124°34.36′ W. long.; and

(166) 40°10.00′ N. lat., 124°21.12′ W. long.

[FR Doc. 06-2064 Filed 3-2-06; 8:45 am]

BILLING CODE 3510-22-P